DEPARTMENT OF ENERGY

Federal Energy Regulatory Commission

[Docket No. GT00-18-000]

PG&E Gas Transmission, Northwest Corporation; Notice of Refund Report

February 14, 2000.

Take notice that on February 9, 2000, PG&E Gas Transmission, Northwest Corporation (PG&E GT-NW) filed a Refund Report for interruptible transportation revenue credits on its Coyote Springs Extension.

PG&E GT-NW states that it refunded $1,363.56 to Portland General Electric Company, the sole eligible firm shipper on the Coyote Springs Extension, by credit billing adjustment on January 10, 2000.

PG&E GT-NW further states that a copy of this filing has been served on all affected customers and interested state regulatory agencies.

Any person desiring to be heard or to protest said filing should file a motion to intervene or a protest with the Federal Energy Regulatory Commission, 888 First Street, NE, Washington, DC 20426, in accordance with Section 385.214 or 385.211 of the Commission's Rules and Regulations. All such motions or protests must be filed on or before February 22, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-3904 Filed 2-17-00; 8:45 am]

BILLING CODE 6717-01-M